NATIONAL FOUNDATION ON THE ARTS AND THE HUMANITIES

National Endowment for the Humanities

Meeting of Humanities Panel

AGENCY: National Endowment for the Humanities, National Foundation on the Arts and the Humanities.

ACTION: Notice of meeting.

SUMMARY: The National Endowment for the Humanities will hold nineteen meetings of the Humanities Panel, a federal advisory committee, during November 2018. The purpose of the meetings is for panel review, discussion, evaluation, and recommendation of applications for financial assistance under the National Foundation on the Arts and Humanities Act of 1965.

DATES: See SUPPLEMENTARY INFORMATION for meeting dates. The meetings will open at 8:30 a.m. and will adjourn by 5:00 p.m. on the dates specified below.

ADDRESSES: The meetings will be held at Constitution Center at 400 7th Street SW, Washington, DC 20506, unless otherwise indicated.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: November 1, 2018

This meeting will discuss applications on the topics of American History and Studies, for Kluge Fellowships, submitted to the Division of Research Programs.

2. Date: November 1, 2018

This meeting will discuss applications on the topic of World Studies: Modern Era, for the Humanities Collections and Reference Resources grant program, submitted to the Division of Preservation and Access.

3. Date: November 2, 2018

This meeting will discuss applications on the topics of U.S. History and Culture, for the Media Projects: Development Grants, submitted to the Division of Public Programs.

4. Date: November 5, 2018

This meeting will discuss applications on the topics of Regional History and Culture, for the Media Projects: Production Grants, submitted to the Division of Public Programs.

5. Date: November 5, 2018

This meeting will discuss applications on the topics of Music and Performing Arts, for the Humanities Collections and Reference Resources grant program, submitted to the Division of Preservation and Access.

6. Date: November 6, 2018

This meeting will discuss applications on the topics of Civics and Culture, for the Public Humanities Projects: Community Conversations grant program, submitted to the Division of Public Programs.

7. Date: November 7, 2018

This meeting will discuss applications on the topics of U.S. History and Culture, for the Media Projects: Production Grants, submitted to the Division of Public Programs.

8. Date: November 7, 2018

This meeting will discuss applications on the topic of Indigenous Studies, for the Humanities Collections and Reference Resources grant program, submitted to the Division of Preservation and Access.

9. Date: November 8, 2018

This meeting will discuss applications on the topic of U.S. History: Social, for the Humanities Collections and Reference Resources grant program, submitted to the Division of Preservation and Access.

10. Date: November 8, 2018

This meeting will discuss applications on the topics of History and Culture, for the Public Humanities Projects: Exhibitions (Implementation) grant program, submitted to the Division of Public Programs.

11. Date: November 8, 2018

This meeting will discuss applications for the Humanities Open Book Program, submitted to the Office of Digital Humanities.

12. Date: November 9, 2018

This meeting will discuss applications on the topic of International Topics, for the Media Projects: Development Grants, submitted to the Division of Public Programs.

13. Date: November 13, 2018

This meeting will discuss applications on the topics of Series and Podcasts, for the Media Projects: Production Grants, submitted to the Division of Public Programs.

14. Date: November 14, 2018

This meeting will discuss applications on the topics of History and Culture, for the Public Humanities Projects: Exhibitions (Implementation) grant program, submitted to the Division of Public Programs.

15. Date: November 19, 2018

This meeting will discuss applications on the topic of U.S. History, for the Public Humanities Projects: Community Conversations grant program, submitted to the Division of Public Programs.

16. Date: November 20, 2018

This meeting will discuss applications on the topic of American Studies, for the Public Humanities Projects: Exhibitions (Implementation) grant program, submitted to the Division of Public Programs.

17. Date: November 27, 2018

This meeting will discuss applications on the topic of History of Science, Technology, and Medicine, for the Humanities Collections and Reference Resources grant program, submitted to the Division of Preservation and Access.

18. Date: November 29, 2018

This meeting will discuss applications on the topic of U.S. History: Military and Political, for the Humanities Collections and Reference Resources grant program, submitted to the Division of Preservation and Access.

19. Date: November 30, 2018

This meeting will discuss applications on the topic of World Studies: Ancient World to Medieval Era, for the Humanities Collections and Reference Resources grant program, submitted to the Division of Preservation and Access.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: October 11, 2018.
Elizabeth Voyatzis,
Committee Management Officer, National Endowment for the Humanities.

[FR Doc. 2018-22544 Filed 10-16-18; 8:45 am]

BILLING CODE 7536-01-P